ENVIRONMENTAL PROTECTION AGENCY

[CERCLA-04-2016-3750; FRL 9941-28-Region 4]

Stony Hill Road Superfund Site; Wake Forest, Wake County, North Carolina; Notice of Proposed Settlement

AGENCY: Environmental Protection Agency.

ACTION: Notice of proposed settlement.

SUMMARY: Under 122(h) of the Comprehensive Environmental Response, Compensation and Liability Act (CERCLA), the United States Environmental Protection Agency is proposing to enter into a settlement with Flextronics International USA, Inc., concerning the Stony Hill Road Superfund Site located in Wake Forest, Wake County, North Carolina. The proposed settlement addresses recovery of CERCLA costs for a cleanup action performed by the EPA at the Site.

DATES: The Agency will consider public comments on the proposed settlement until February 12, 2016. The Agency will consider all comments received and may modify or withdraw its consent to the proposed settlement if comments received disclose facts or considerations which indicate that the proposed settlement is inappropriate, improper, or inadequate.

ADDRESSES: Copies of the proposed settlement are available from the Agency by contacting Ms. Paula V. Painter, Program Analyst, using the contact information provided in this notice. Comments may also be submitted by referencing the Site's name through one of the following methods:

• Internet: http://www2.epa.gov/nc/public-settlement-concerning-stony-hill-road-superfund-site.

• U.S. Mail: U.S. Environmental Protection Agency, Superfund Division, Attn: Paula V. Painter, 61 Forsyth Street SW., Atlanta, Georgia 30303.

• Email: Painter.Paula@epa.gov.

FOR FURTHER INFORMATION CONTACT: Paula V. Painter at 404/562-8887.

Dated: November 3, 2015.
Anita L. Davis,
Chief, Enforcement and Community Engagement Branch, Superfund Division.

[FR Doc. 2016-00539 Filed 1-12-16; 8:45 am]

BILLING CODE P